DEPARTMENT OF HEALTH AND HUMAN SERVICES

Centers for Disease Control and Prevention

[Program Announcement 00117]

Prevention and Control of Micronutrient Malnutrition; Notice of Availability of Funds

A. Purpose

The Centers for Disease Control and Prevention (CDC) announces the availability of fiscal year (FY) 2000 funds for a cooperative agreement program for the Prevention and Control of Micronutrient Malnutrition.

B. Eligible Applicant(s)

Single Source

Assistance will be provided only to the United Nations Children's Fund (UNICEF), New York, New York. No other applications are solicited.

UNICEF is the most appropriate and qualified agency to conduct the activities under this cooperative agreement because:

1. UNICEF is the only organization that has country-based offices to support direct delivery of public health programs and services in nearly every country in the world. Additionally, UNICEF's mandate addresses issues other than health, e.g., education; and this has enabled UNICEF programs to advocate more effectively for micronutrient deficiency intervention programs across multiple sectors of society because of the significant impact of such programs on health as well as education of populations. In addition to national offices, UNICEF supports sub-national programs which allow it direct access to local public health and education programs.

2. UNICEF supports micronutrient deficiency intervention programs around the world through the distribution of vitamin A capsules, as well as iron and folic acid supplements to target populations. UNICEF supports country-based salt iodization programs around the world to reduce the burden of iodine deficiency disorders.

3. The proposed program is strongly supportive of, and directly related to, the achievement of UNICEF and the CDC/Micronutrient Malnutrition Program objectives for the prevention and control of micronutrient malnutrition.

C. Availability of Funds

Approximately $700,000 is available in FY 2000 to fund one award. It is expected that the award will begin on or about September 30, 2000, and will be made for a 12-month budget period within a project period of up to two years.

D. Where To Obtain Additional Information

Business management technical assistance may be obtained from: Van A. King, Grants Management Specialist, Grants Management Branch, Procurement and Grants Office, Centers for Disease Control and Prevention (CDC), Announcement [00117], 2920 Brandywine Road, Room 3000, Atlanta, GA 30341, Telephone Number (770) 488-2751, Email Address vbk5@cdc.gov.

Program technical assistance may be obtained from: Ibrahim Parvanta, Division of Nutrition and Physical Activity, National Center for Chronic Disease Prevention, Centers for Disease Control and Prevention, 4770 Buford Highway, MS K-25, Atlanta, GA 30341-3724, Telephone Number (770) 488-5865, Email Address ixp1@cdc.gov.

Dated: June 14, 2000.
Henry S. Cassell, III,
Acting Director, Procurement and Grants Office, Centers for Disease Control and Prevention (CDC).

[FR Doc. 00-15584 Filed 6-20-00; 8:45 am]

BILLING CODE 4163-18-P